DEPARTMENT OF DEFENSE

Department of the Navy

Notice of Extension of Comment Period for the Draft Environmental Impact Statement/Overseas Environmental Impact Statement for the Northwest Training Range Complex

AGENCY: Department of the Navy, DoD.

ACTION: Notice.

SUMMARY: A notice of availability was published by the U.S. Environmental Protection Agency in the Federal Register (73 FR 79473) on December 29, 2008 for the Northwest Training Range Complex (NWTRC) Draft Environmental Impact Statement/Overseas Environmental Impact Statement (EIS/OEIS). The public review period ends on February 11, 2009. This notice announces a seven-day extension of the public comment period until February 18, 2009.

FOR FURTHER INFORMATION CONTACT: Mrs. Kimberly Kler, Naval Facilities Engineering Command Northwest, Attention: NWTRC EIS/OEIS, 1101 Tautog Circle, Suite 203, Silverdale, Washington 98315-1101; or http://www.NWTRangeComplexEIS.com.

SUPPLEMENTARY INFORMATION: The public comment period on the NWTRC Draft EIS/OEIS will be extended by seven days until February 18, 2009. Comments may be submitted in writing to Naval Facilities Engineering Command Northwest, Attention: Mrs. Kimberly Kler—NWTRC EIS/OEIS, 1101 Tautog Circle, Suite 203, Silverdale, WA 98315-1101. In addition, comments may be submitted online at http://www.NWTRangeComplexEIS.com during the comment period. All written comments must be postmarked by February 18, 2009, to ensure they become part of the official record. All comments will be addressed in the Final EIS/OEIS.

Copies of the Draft EIS/OEIS are available for public review at the following libraries:

1. Humboldt County Library, 1313 Third Street, Eureka, CA;

2. Jefferson County Rural Library, 620 Cedar Avenue, Port Hadlock, WA;

3. Kitsap Regional Library, 1301 Sylvan Way, Bremerton, WA;

4. Lincoln City Public Library, 801 SW Highway 101, Lincoln City, OR;

5. Oak Harbor Public Library, 1000 SE Regatta Drive, Oak Harbor, WA;

6. Port Townsend Public Library, 1220 Lawrence St., Port Townsend, WA;

7. Timberland Regional Library, 420 Seventh Street, Hoquiam, WA.

The NWTRC Draft EIS/OEIS is also available for electronic public viewing at: http://www.NWTRangeComplexEIS.com.

Dated: February 6, 2009.
A.M. Vallandingham,
Lieutenant Commander, Judge Advocate General's Corps, U.S. Navy, Federal Register Liaison Officer.

[FR Doc. E9-2932 Filed 2-10-09; 8:45 am]

BILLING CODE 3810-FF-P